DEPARTMENT OF TRANSPORTATION

Surface Transportation Board

[Docket No. FD 35810]

CCET, LLC—Lease and Operation Exemption—Rail Line of Norfolk Southern Railway Company

CCET, LLC (CCET), a noncarrier, has filed a verified notice of exemption under 49 CFR 1150.31 to lease from Norfolk Southern Railway Company (NSR), and to operate, pursuant to a lease agreement dated March 14, 2014, an approximately 24-mile portion of NSR's CT Line, extending between milepost CT 9.0 at Clare, Ohio, east of Clare Yard, and milepost CT 32.83, west of Williamsburg, Ohio, and passing through Hamilton County and Clermont County, Ohio (the Line).

According to CCET, the lease does not contain any provision that prohibits, restricts, or would otherwise limit future interchange of traffic with any third-party carrier. CCET states that it will hold itself out to provide all common carrier rail freight service over the Line, with NSR retaining limited overhead trackage rights.

CCET intends to consummate the proposed transaction on or after April 27, 2014, which is after the effective date of this exemption (30 days after the exemption was filed).

CCET certifies that their projected annual revenues as a result of this transaction will not result in its becoming a Class I or Class II rail carrier and will not exceed $5 million.

If the verified notice contains false or misleading information, the exemption is void ab initio. Petitions to revoke the exemption under 49 U.S.C. 10502(d) may be filed at any time. The filing of a petition to revoke will not automatically stay the effectiveness of the exemption. Petitions to stay must be filed by April 11, 2014 (at least seven days prior to the date the exemption becomes effective).

An original and ten copies of all pleadings, referring to Docket No. FD 35810, must be filed with the Surface Transportation Board, 395 E Street SW., Washington, DC 20423-0001. In addition, a copy of each pleading must be served on applicant's representative, James H.M. Savage, 22 Rockingham Court, Germantown, MD 20874.

Board decisions and notices are available on our Web site at “WWW.STB.DOT.GOV.”

By the Board,
Decided: March 28, 2014.
Rachel D. Campbell,
Director, Office of Proceedings.
Jeffrey Herzig,
Clearance Clerk.

[FR Doc. 2014-07522 Filed 4-3-14; 8:45 am]

BILLING CODE 4915-01-P